DEPARTMENT OF EDUCATION

Applications for New Awards; Model Comprehensive Transition and Postsecondary Programs for Students With Intellectual Disabilities—Coordinating Center (TPSID-CC) Program

AGENCY: Office of Postsecondary Education, Department of Education.

ACTION: Notice.

SUMMARY: The Department of Education (Department) is issuing a notice inviting applications (NIA) for a new award for fiscal year (FY) 2025 for the TPSID-CC program, Assistance Listing Number 84.407B. This notice relates to the approved information collection under OMB control number 1840-0825 for this program.

DATES:

Applications Available: July 14, 2025.

Deadline for Transmittal of Applications: August 13, 2025.

Deadline for Intergovernmental Review: September 12, 2025.

ADDRESSES: For the addresses for obtaining and submitting an application, please refer to our Common Instructions for Applicants to Department of Education Discretionary Grant Programs, published in the Federal Register on December 23, 2024 (89 FR 104528), and available at www.federalregister.gov/documents/2024/12/23/2024-30488/common-instructions-for-applicants-to-department-of-education-discretionary-grant-programs. Please note that these Common Instructions supersede the version published on December 7, 2022.

FOR FURTHER INFORMATION CONTACT: Shedita Alston, U.S. Department of Education, 400 Maryland Avenue SW, Floor 5, Washington, DC 20202-4260. Telephone: (202) 453-7090. Email: Shedita.Alston@ed.gov.

If you are deaf, hard of hearing, or have a speech disability and wish to access telecommunications relay services, please dial 7-1-1.

SUPPLEMENTARY INFORMATION:

Full Text of Announcement

I. Funding Opportunity Description

Purpose of Program: The purpose of this program is to establish a coordinating center for institutions of higher education that offer inclusive comprehensive transition and postsecondary programs for students with intellectual disabilities, including institutions that have grants authorized under the Transition Programs for Students with Intellectual Disabilities into Higher Education (TPSID) program (CFDA 84.407A), as well as those not participating in the TPSID program.

Background: The TPSID-CC program provides for the establishment of a technical assistance center to translate and disseminate research and best practices for all institutions of higher education (IHEs), including those not participating in the TPSID program, for improving inclusive postsecondary education for students with intellectual disabilities (SWIDs). This center will help ensure that knowledge and products gained through research will reach more IHEs and students and improve postsecondary educational opportunities for SWIDs. Moreover, the purpose of the TPSID-CC program is to support a national coordinating center charged with conducting and disseminating research on strategies to promote positive academic, social, employment, and independent living outcomes for students with intellectual disabilities. The TPSID-CC will establish a comprehensive research and evaluation protocol for TPSID programs; administer a mentoring program matching current and new TPSID grantees based on areas of expertise; and coordinate longitudinal follow up data collection and technical assistance to TPSID grantees on programmatic components and evidence-based practices. The TPSID-CC will also provide technical assistance to build the capacity of kindergarten through grade 12 transition services and support postsecondary education inclusive practices, among other activities. Since FY 2010, the Department has awarded grants under the TPSID-CC program to translate and disseminate research and best practices for all IHEs, including those not participating in the TPSID program, for improving inclusive postsecondary education for SWIDs. Since FY 2021, the Department has separately awarded a Postsecondary Programs for Students with Intellectual Disabilities-National Technical Assistance and Dissemination Center (PPSID-NTAD) grant to establish a separate Center to translate and disseminate to IHEs research and best practices for improving inclusive postsecondary education for SWIDs; including not only those not participating in the TPSID program, but also those IHEs that do not currently offer a Comprehensive Transition Program for improving inclusive postsecondary education for SWIDs. Since the PPSID-NTAD overlaps significantly with the TPSID-CC, the Department has determined that the most efficient way to implement this program in FY 2025 is to encourage applicants to incorporate the PPSID-NTAD's focus on Technical Assistance activities supporting non-TPSID grantees and institutions without comprehensive transition programs, within the TPSID-CC program. This approach, which is accomplished through an invitational priority, also enables the Department to support additional and larger TPSID grants under the 84.407A competition.

Priorities: This notice contains one absolute priority and one invitational priority. We are establishing these priorities for the FY 2025 grant competition and any subsequent year in which we make awards from the list of unfunded applications from this competition. In accordance with 34 CFR 75.105(b)(2)(iv), the absolute priority is from section 777(b) of the HEA (20 U.S.C. 1140q(b)).

Absolute Priority: Under 34 CFR 75.105(c)(3) we consider only applications that meet this priority.

This priority is:

The eligible entity entering into a cooperative agreement under this subsection shall establish and maintain a Coordinating Center that shall—

(1) Serve as the technical assistance entity for all comprehensive transition and postsecondary programs for students with intellectual disabilities;

(2) Provide technical assistance regarding the development, evaluation, and continuous improvement of such programs;

(3) Develop an evaluation protocol for such programs that includes qualitative and quantitative methodologies for measuring student outcomes and program strengths in the areas of academic enrichment, socialization, independent living, and competitive or supported employment;

(4) Assist recipients of grants under TPSID in efforts to award a meaningful credential to students with

intellectual disabilities upon the completion of such programs, which credential must take into consideration unique State factors;

(5) Develop recommendations for the necessary components of such programs, such as—

(i) Academic, vocational, social, and independent living skills;

(ii) Evaluation of student progress;

(iii) Program administration and evaluation;

(iv) Student eligibility; and

(v) Issues regarding the equivalency of a student's participation in such programs to semester, trimester, quarter, credit, or clock hours at an institution of higher education (as defined in section 101 of the HEA), as the case may be;

(6) Analyze possible funding streams for such programs and provide recommendations regarding the funding streams;

(7) Develop model memoranda of agreement for use between or among institutions of higher education and State and local agencies providing funding for such programs;

(8) Develop mechanisms for regular communication, outreach, and dissemination of information about comprehensive transition and postsecondary programs for students with intellectual disabilities under subpart 2 between or among such programs and to families and prospective students;

(9) Host a meeting of all recipients of grants authorized under subpart 2 not less often than once each year; and

(10) Convene a workgroup to develop and recommend model criteria, standards, and components of such programs as described in subparagraph (E), that are appropriate for the development of accreditation standards, which workgroup shall include—

(i) An expert in higher education;

(ii) An expert in special education;

(iii) A disability organization that represents students with intellectual disabilities;

(iv) A representative from the National Advisory Committee on Institutional Quality and Integrity; and

(v) A representative of a regional or national accreditation agency or association.

Invitational Priority: For FY 2025 and any subsequent year in which we make awards from the list of unfunded applications from this competition, this priority is an invitational priority. Under 34 CFR 75.105(c)(1) we do not give an application that meets this invitational priority a competitive or absolute preference over other applications.

Background: In FY 2021, the Department funded a cooperative agreement to establish and operate the PPSID-NTAD program. On an invitational basis, eligible applicants are invited to support the Department's continued interest in broadening the dissemination of information that is based on the work that has been completed by projects funded under the TPSID program (Assistance Listing Number 84.407A). Broadening the translation and dissemination of research and best practices for all IHEs, including those not participating in the TPSID program as well as those IHEs that do not offer comprehensive transition programs, assists other IHEs including other colleges and universities, local educational agencies (LEAs), families and students, and other stakeholders to learn about high-impact practices which will allow for the development, expansion, and improvement of inclusive higher education for SWIDs.

This invitational priority is:

Priority for projects designed to translate and disseminate research and best practices for improving inclusive postsecondary education for SWIDs to IHEs that are not participating in the Transition and Postsecondary Programs for Students with Intellectual Disabilities to IHEs and that do not currently offer Comprehensive Transition Programs, for improving inclusive postsecondary education for students with intellectual disabilities.

Definitions: The following definitions apply to this competition. The definitions of “comprehensive transition and postsecondary program for students with intellectual disabilities” and “student with an intellectual disability” are from section 760 of the Higher Education Act of 1965, as amended (HEA) (20 U.S.C. 1140). The term “cooperative agreement” is from 2 CFR 200.24.

Comprehensive transition and postsecondary program for students with intellectual disabilities means a degree, certificate, or nondegree program that—

(1) Is offered by an IHE;

(2) Is designed to support SWIDs who are seeking to continue academic, career and technical, and independent living instruction at an IHE in order to prepare for gainful employment;

(3) Includes an advising and curriculum structure;

(4) Requires SWIDs to participate on not less than a half-time basis as determined by the institution, with such participation focusing on academic components, and occurring through one or more of the following activities:

(i) Regular enrollment in credit-bearing courses with nondisabled students offered by the institution.

(ii) Auditing or participating in courses with nondisabled students offered by the institution for which the student does not receive regular academic credit.

(iii) Enrollment in noncredit-bearing, nondegree courses with nondisabled students.

(iv) Participation in internships or work-based training in settings with nondisabled individuals; and

(5) Requires SWIDs to be socially and academically integrated with non-disabled students to the maximum extent possible.

Cooperative agreement means a legal instrument of financial assistance between a Federal awarding agency and a recipient or a pass-through entity and a subrecipient that, consistent with 31 U.S.C. 6302-6305:

(1) Is used to enter into a relationship the principal purpose of which is to transfer anything of value to carry out a public purpose authorized by a law of the United States (see 31 U.S.C. 6101(3)); and not to acquire property or services for the Federal Government or pass-through entity's direct benefit or use;

(2) Is distinguished from a grant in that it provides for substantial involvement of the Federal awarding agency in carrying out the activity contemplated by the Federal award.

(3) The term does not include:

(i) A cooperative research and development agreement as defined in 15 U.S.C. 3710a; or

(ii) An agreement that provides only:

(A) Direct United States Government cash assistance to an individual;

(B) A subsidy;

(C) A loan;

(D) A loan guarantee; or

(E) Insurance.

Student with an intellectual disability means a student—

(1) With a cognitive impairment, characterized by significant limitations in—

(i) Intellectual and cognitive functioning; and (ii) Adaptive behavior as expressed in conceptual, social, and practical adaptive skills; and

(2) Who is currently, or was formerly, eligible for a free appropriate public education under the Individuals with Disabilities Education Act.

Program Authority: 20 U.S.C. 1140q(b).

Applicable Regulations: (a) The Education Department General Administrative Regulations (EDGAR) in 34 CFR parts 75, 77, 79, 82, 84, 86, 97, 98, and 99. (b) The OMB Guidelines to Agencies on Government-wide Debarment and Suspension (Nonprocurement) in 2 CFR part 180, as adopted and amended as regulations of the Department in 2 CFR part 3485. (c). The Uniform Administrative Requirements, Cost Principles, and Audit Requirements for Federal Awards in 2 CFR part 200, as adopted and amended as regulations of the Department in 2 CFR part 3474.

Note: The regulations in 34 CFR part 86 apply to institutions of higher education only.

II. Award Information

Type of Award: Cooperative agreement.

Estimated Available Funds: $2,000,000.

Contingent upon the availability of funds and the quality of applications, we may make additional awards in subsequent years from the list of unfunded applications from this competition.

Estimated Average Size of Award: $2,000,000.

Maximum Award: We will not make an award exceeding $2,000,000 for a project period of 12 months.

Estimated Number of Awards: 1.

Note: The Department is not bound by any estimates in this notice.

Project Period: 60 months.

III. Eligibility Information

1. Eligible Applicants: Under section 777(b)(1) of the HEA, an “eligible entity” means an entity, or a partnership of entities, that has demonstrated expertise in the fields of—

(1) Higher education;

(2) The education of students with intellectual disabilities;

(3) The development of comprehensive transition and postsecondary programs for students with intellectual disabilities; and

(4) Evaluation and technical assistance.

2. a. Cost Sharing or Matching: This competition does not require cost sharing or matching.

b. Indirect Cost Rate Information: For entities eligible to apply to this competition, the TPSID-CC is subject to an unrestricted indirect cost rate which is determined by the entity's current negotiated indirect cost rate agreement. For more information regarding indirect costs, or to obtain a negotiated indirect cost rate, please see https://www.ed.gov/about/ed-offices/ofo#indirect-cost-division.

b. Administrative Cost Limitation: This program does not include any program-specific limitation on administrative expenses. All administrative expenses must be reasonable and necessary and conform to the Cost Principles described in 2 CFR part 200 subpart E of the Uniform Guidance.

3. Subgrantees: A grantee under this competition may not award subgrants to entities to directly carry out project activities described in its application.

IV. Application and Submission Information

1. Application Submission Instructions: For the addresses for obtaining and submitting an application, please refer to our Common Instructions for Applicants to Department of Education Discretionary Grant Programs, published in the Federal Register on December 23, 2024 (89 FR 104528) and available at www.federalregister.gov/documents/2024/12/23/2024-30488/common-instructions-for-applicants-to-department-of-education-discretionary-grant-programs. Please note that these Common Instructions supersede the version published on December 7, 2022.

2. Intergovernmental Review: This program is subject to Executive Order 12372 and the regulations in 34 CFR part 79. Information about intergovernmental Review of Federal Programs under Executive Order 12372 is in the application package for this program. Please note that, under 34 CFR 79.8(a) at https://www.ecfr.gov/current/title-34/subtitle-A/part-79/section-79.8#p-79.8(a), we have shortened the standard 60-day intergovernmental review period in order to make awards by the end of FY 2025.

3. Funding Restrictions: We reference regulations outlining funding restrictions in the Applicable Regulations section of this notice.

4. Recommended Page Limit: The application narrative is where you, the applicant, address the selection criteria that reviewers use to evaluate your application. We recommend that you (1) limit the application narrative to no more than 60 pages and (2) use the following standards:

• A “page” is 8.5″ x 11″, on one side only, with 1″ margins at the top, bottom, and both sides.

• Double space (no more than three lines per vertical inch) all text in the application narrative, excluding titles, headings, footnotes, quotations, references, and captions as well as all text in charts, tables, figures, and graphs.

• Use a font that is either 12 point or larger, and no smaller than 10 pitch (characters per inch).

• Use one of the following fonts: Times New Roman, Courier, Courier New, or Arial.

The recommended 60-page limit does not apply to the Application for Federal Assistance cover sheet (SF 424); The Budget Information Summary form (ED Form 524) section, the budget section, including the narrative budget justification; the assurances and certifications; or the one-page project abstract. The project abstract also does not apply to a table of contents, which you should include in the application narrative. You must include your complete response to the selection criteria in the application narrative. However, the recommended 60-page limit does apply to all the application narrative.

We recommend that any application addressing the invitational priority be clearly labeled as such and include no more than three additional pages, if addressed.

Note: The Budget Information-Non-Construction Programs Form (ED 524) Sections A-C are not the same as the narrative response to the Budget section of the selection criteria.

V. Application Review Information

1. Selection Criteria: The following selection criteria for this program are from 34 CFR 75.210. The points assigned to each criterion are indicated in parentheses. Applicants may earn up to a total of 100 points for the selection criteria.

(a) Need for project. (up to 10 points)

(1) The Secretary considers the need for the proposed project.

(2) In determining the need for the proposed project, the Secretary considers the following factors:

(i) The extent to which the proposed project demonstrates the magnitude of the need for the services to be provided or the activities to be carried out by the proposed project. (10 points)

(b) Significance. (up to 10 points)

(1) The Secretary considers the significance of the proposed project.

(2) In determining the significance of the proposed project, the Secretary considers the following factors:

(i) The extent to which the resources, tools, and implementation lessons of the proposed project will be disseminated in ways to the target population and local community that will enable them and others (including practitioners, researchers, education leaders, and partners) to implement similar strategies. (5 points)

(ii) The extent to which the proposed project involves the development or demonstration of innovative and effective strategies that build on, or are alternatives to, existing strategies. (5 points)

(c) Quality of the project design. (up to 40 points) (1) The Secretary considers the quality of the design of the proposed project.

(2) In determining the quality of the design of the proposed project, the Secretary considers the following factors:

(i) The extent to which the proposed project demonstrates that it is designed to build capacity and yield sustainable results that will extend beyond the project period. (5 points)

(ii) The extent to which the design of the proposed project includes a thorough, high-quality review of the relevant literature, a high-quality plan for project implementation, and the use of appropriate methodological tools to ensure successful achievement of project objectives. (5 points)

(iii) The extent to which the design of the proposed project reflects the most recent and relevant knowledge and practices from research and effective practice. (5 points)

(iv) The likelihood that the services to be provided by the proposed project will lead to meaningful improvements in the skills and competencies necessary to gain employment in high-quality jobs, careers, and industries or build capacity for independent living. (10 points)

(v) The extent to which the services to be provided by the proposed project involve the use of efficient strategies, including the use of technology, as appropriate, and the leveraging of non-project services. (5 points)

(vi) The extent to which the project director or principal investigator, when hired, has the qualifications required for the project, including formal training or work experience in fields related to the objectives of the project and experience in designing, managing, or implementing similar projects for the target population to be served by the project. (10 points)

(d) Adequacy of resources. (up to 20 points)

(1) The Secretary considers the adequacy of resources for the proposed project.

(2) In determining the adequacy of resources for the proposed project, the Secretary considers one or more of the following factors:

(i) The adequacy of support for the project, including facilities, equipment, supplies, and other resources, from the applicant or the lead applicant organization. (5 points)

(ii) The extent to which the budget is adequate to support the proposed project and the costs are reasonable in relation to the objectives, design, and potential significance of the proposed project. (5 points)

(iii) The extent to which the costs are reasonable in relation to the number of persons to be served, the depth and intensity of services, and the anticipated results and benefits. (5 points)

(iv) The level of initial matching funds or other commitment from partners, indicating the likelihood for potential continued support of the project after Federal funding ends. (5 points)

(e) Quality of the management plan. (up to 10 points)

(1) The Secretary considers the quality of the management plan for the proposed project.

(2) In determining the quality of the management plan for the proposed project, the Secretary considers one or more of the following factors:

(i) The feasibility of the management plan to achieve project objectives and goals on time and within budget, including clearly defined responsibilities, timelines, and milestones for accomplishing project tasks. (5 points)

(ii) The extent to which the time commitments of the project director and principal investigator and other key project personnel are appropriate and adequate to meet the objectives of the proposed project. (5 points)

(f) Quality of the project evaluation. (up to 10 points)

(1) The Secretary considers the quality of the evaluation or other evidence-building of the proposed project.

(2) In determining the quality of the evaluation or other evidence-building, the Secretary considers one or more of the following factors:

(i) The extent to which the methods of evaluation or other evidence-building are thorough, feasible, relevant, and appropriate to the goals, objectives, and outcomes of the proposed project. (5 points)

(ii) The extent to which the evaluator has the qualifications, including relevant training, experience, and independence, required to conduct an evaluation of the proposed project, including experience conducting evaluations of similar methodology as proposed and with evaluations for the proposed population and setting. (5 points)

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary requires various assurances including those applicable to Federal civil rights laws that prohibit discrimination in programs or activities receiving Federal financial assistance from the Department (34 CFR 100.4, 104.5, 106.4, 108.8, and 110.23).

For this competition, a panel of non-Federal reviewers will review each application in accordance with the selection criteria in 34 CFR 75.210. The individual scores of the reviewers will be added and the sum divided by the number of reviewers to determine the peer review score received in the review process.

In a tie-breaking situation under this program, preference will be given to the applicant with the highest score under the “Quality of the Project Design” criterion. If there is still a tie after implementing the first tiebreaker, preference will be given to the applicant with the highest score under the “Quality of the Project Evaluation” criterion. If there is still a tie after applying the secondary tiebreaker, preference will be given to the applicant with the highest score on the “Quality of Management Plan” selection criterion.

3. Risk Assessment and Specific Conditions: Consistent with 2 CFR 200.206, before awarding grants under this competition, the Department conducts a review of the risks posed by applicants. Under 2 CFR 200.208, the Secretary may impose specific conditions and, under 2 CFR 3474.10, in appropriate circumstances, high-risk conditions on a grant if the applicant or grantee is not financially stable; has a history of unsatisfactory performance; has a financial or other management system that does not meet the standards in 2 CFR part 200, subpart D; has not fulfilled the conditions of a prior grant; or is otherwise not responsible.

4. Integrity and Performance System: If you are selected under this competition to receive an award that over the course of the project period may exceed the simplified acquisition threshold (currently $250,000), under 2 CFR 200.206(a)(2), we must make a judgment about your integrity, business ethics, and record of performance under Federal awards—that is, the risk posed by you as an applicant—before we make an award. In doing so, we must consider any information about you that is in the integrity and performance system (currently referred to as the Federal Awardee Performance and Integrity Information System (FAPIIS)), accessible through the System for Award Management. You may review and comment on any information about yourself that a Federal agency previously entered and that is currently in FAPIIS.

Please note that, if the total value of your currently active grants, cooperative agreements, and procurement contracts from the Federal Government exceeds $10,000,000, the reporting requirements in 2 CFR part 200, Appendix XII, require you to report certain integrity information to FAPIIS semiannually. Please review the requirements in 2 CFR part 200, Appendix XII, if this grant plus all the other Federal funds you receive exceed $10,000,000.

5. In General: In accordance with the Office of Management and Budget's guidance located at 2 CFR part 200, all applicable Federal laws and regulations, and relevant Executive guidance, the Department will review and consider applications for funding pursuant to this notice inviting applications in accordance with—

(a) Selecting recipients most likely to be successful in delivering results based on the program objectives through an objective process of evaluating Federal award applications (2 CFR 200.205);

(b) Prohibiting the purchase of certain telecommunication and video surveillance services or equipment in alignment with section 889 of the National Defense Authorization Act of 2019 (Pub. L. 115-232) (2 CFR 200.16);

(c) Providing a preference, to the extent permitted by law, to maximize use of goods, products, and materials produced in the United States (2 CFR 200.322); and

(d) Terminating agreements in whole or in part pursuant to the terms and conditions of the Federal award, including, to the extent authorized by law, if an award no longer effectuates the program goals and agency priorities (2 CFR 200.340).

5. Award Notices: If your application is successful, we notify your U.S. Representative and U.S. Senators and send you a Grant Award Notification (GAN); or we may send you an email containing a link to access an electronic version of your GAN. We also may notify you informally.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Open Licensing Requirements: Unless an exception applies, if you are awarded a grant under this competition, you will be required to openly license to the public grant deliverables created in whole, or in part, with Department grant funds. When the deliverable consists of modifications to pre-existing works, the license extends only to those modifications that can be separately identified and only to the extent that open licensing is permitted under the terms of any licenses or other legal restrictions on the use of pre-existing works.

Additionally, a grantee or subgrantee that is awarded competitive grant funds must have a plan to disseminate these public grant deliverables. This dissemination plan can be developed and submitted after your application has been reviewed and selected for funding. For additional information on the open licensing requirements please refer to 2 CFR 3474.20.

4. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multiyear award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

(c) Under 34 CFR 75.250 (b), the Secretary may provide a grantee with additional funding for data collection analysis and reporting. In this case the Secretary establishes a data collection period.

5. Performance Measures: The Government Performance and Results Act of 1993 directs Federal departments and agencies to improve the effectiveness of their programs by engaging in strategic planning, setting outcome-related goals for programs, and measuring program results against those goals. The goal of the TPSID-CC Program is to provide—(a) recommendations related to the development of standards for inclusive comprehensive transition and postsecondary programs for students with intellectual disabilities; (b) technical assistance for such programs; and (c) evaluations for such programs. To assess the success of the grantee in meeting these goals, in addition to other information, the grantee's annual performance report must include—

(a) The percentage of inclusive comprehensive transition and postsecondary programs assisted by the TPSID-CC that meet evidence-based, center-developed standards for necessary program components, reported across each standard; and

(b) The percentage of students with intellectual disabilities who are enrolled in programs assisted by the TPSID-CC who complete the programs and obtain a meaningful credential, as defined by the TPSID-CC and supported through empirical evidence; and

(c) The percentage of inclusive comprehensive transition and postsecondary programs SWIDs assisted by the Center that use the technical assistance and/or best practices knowledge disseminated by the Center.

In addition, the TPSID-CC will work closely with the federal project officer to develop additional performance measures, performance targets, and data collection methodologies that are aligned with this work. Data must be collected by the TPSID-CC on accreditation standards and communications with recognized accrediting agencies, descriptions and analyses of funding streams, and the impact of the TPSID-CC's technical assistance activities related to outreach and dissemination. These additional performance measures will capture formative data about the quality, usefulness, relevance, and efficiency of the TPSID-CC's technical assistance and evaluation services.

(6) Continuation Awards: In making a continuation award under 34 CFR 75.253, the Secretary considers, among other things: whether a grantee has made substantial progress in achieving the goals and objectives of the project; whether the grantee has expended funds in a manner that is consistent with its approved application and budget; and, if the Secretary has established performance measurement requirements, the performance targets in the grantee's approved application, or whether the continuation of the project is in the best interest of the Federal Government.

In making a continuation award, the Secretary also considers whether the grantee is operating in compliance with assurances in its approved application, including those applicable to Federal civil rights laws that prohibit discrimination in programs or activities receiving Federal financial assistance from the Department (34 CFR 100.4, 104.5, 106.4, 108.8, and 110.23).

VII. Other Information

Accessible Format: Individuals with disabilities can obtain this document and a copy of the application package in an accessible format (e.g., braille, large print, audiotape, or compact disc) on request to the program contact person listed under FOR FURTHER INFORMATION CONTACT.

Electronic Access to This Document: The official version of this document is the document published in the Federal Register. You may access the official edition of the Federal Register and the Code of Federal Regulations at www.govinfo.gov. At this site, you can view this document, as well as all other Department documents published in the Federal Register, in text or Portable Document Format (PDF). To use PDF, you must have Adobe Acrobat Reader, which is available free at the site.

You may also access Department documents published in the Federal Register by using the article search feature at this site, you can limit your search to documents published by the Department.

Signing Authority

This document of the U.S. Department of Education was signed on July 9, 2025, by Christopher J. McCaghren, ED.D, Acting Assistant Secretary Office of Postsecondary Education. That document with the original signature and date is maintained by the U.S. Department of Education. For administrative purposes only, and in compliance with requirements of the Office of the Federal Register, the undersigned has been authorized to sign the document in electronic format for publication, as an official document of the U.S. Department of Education. This administrative process in no way alters the legal effect of this document upon publication in the Federal Register.

Sharon Cooke,
Associate Director, Office of the Executive Secretariat, Office of the Secretary, U.S. Department of Education.

[FR Doc. 2025-13144 Filed 7-11-25; 8:45 am]

BILLING CODE 4000-01-P